DEPARTMENT OF TRANSPORTATION

Federal Aviation Administration

14 CFR Part 39

[Docket No. 2000-NE-13-AD; Amendment 39-13200; AD 2003-12-15]

RIN 2120-AA64

Airworthiness Directives; Rolls-Royce RB211 Series Turbofan Engines

AGENCY: Federal Aviation Administration, DOT.

ACTION: Final rule.

SUMMARY: This amendment adopts a new airworthiness directive (AD), that is applicable to Rolls-Royce (RR) plc RB211-535E4-37, RB211-535E4-B-37, and RB211-535E4-B-75 series turbofan engines. This amendment requires introducing an alternative technique to ultrasonically inspect installed fan blades on-wing using a surface wave ultrasonic probe. This action also adds the application of Metco 58 blade root coating as an optional terminating action. This amendment is prompted by the discovery of cracks on LPC fan blade roots during an engine overhaul. The actions specified by this AD are intended to detect cracks in LPC fan blade roots, which if not detected, could lead to uncontained multiple fan blade failure, and damage to the airplane.

DATES: Effective July 30, 2003. The incorporation by reference of certain publications listed in the regulations is approved by the Director of the Federal Register as of July 30, 2003.

ADDRESSES: The service information referenced in this AD may be obtained from Rolls-Royce plc, PO Box 31, Derby, England, DE248BJ; telephone: 011-44-1332-242-424; fax: 011-44-1332-249-936. This information may be examined, by appointment, at the Federal Aviation Administration (FAA), New England Region, Office of the Regional Counsel, 12 New England Executive Park, Burlington, MA; or at the Office of the Federal Register, 800 North Capitol Street, NW., suite 700, Washington, DC.

FOR FURTHER INFORMATION CONTACT: James Lawrence, Aerospace Engineer, Engine Certification Office, FAA, Engine and Propeller Directorate, 12 New England Executive Park, Burlington, MA 01803-5299; telephone: (781) 238-7176; fax: (781) 238-7199.

SUPPLEMENTARY INFORMATION: A proposal to amend part 39 of the Federal Aviation Regulations (14 CFR part 39) to include an AD that is applicable to Rolls-Royce (RR) plc RB211-535E4-37, RB211-535E4-B-37, and RB211-535E4-B-75 series turbofan engines was published in the Federal Register on August 9, 2001 (66 FR 41808). That proposal was revised by a supplemental notice of proposed rulemaking (SNPRM) to amend part 39 of the Federal Aviation Regulations (14 CFR part 39). That SNPRM was published in the Federal Register on February 20, 2003 (68 FR 8157). That action proposed to introduce an alternative technique to ultrasonically inspect installed fan blades on-wing using a surface wave ultrasonic probe and also to add the application of Metco 58 blade root coating as an optional terminating action in accordance with Rolls-Royce plc mandatory service bulletin RB.211-72-C879, Revision 3, dated October 9, 2002.

Comments

Interested persons have been afforded an opportunity to participate in the making of this amendment. No comments were received on the proposal or the FAA's determination of the cost to the public. The FAA has determined that air safety and the public interest require the adoption of the rule as proposed.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-12-15 Rolls-Royce plc: Amendment 39-13200. Docket No. 2000-NE-13-AD.

Applicability: This airworthiness directive (AD) is applicable to Rolls-Royce (RR) plc RB211-535E4-37, RB211-535E4-B-37, and RB211-535E4-B-75 series turbofan engines with low pressure compressor (LPC) fan blades with the part numbers (P/Ns) listed in Table 1 of this AD. These engines are installed on, but not limited to Boeing 757 and Tupolev Tu204 series airplanes. Table 1 follows:

Table 1.—Applicable LPC Fan Blade P/Ns
UL16135 | UL16171 | UL16182 | UL19643 | UL20044
UL20132 | UL20616 | UL21345 | UL22286 | UL23122
UL24525 | UL24528 | UL24530 | UL24532 | UL24534
UL27992 | UL28601 | UL28602 | UL29511 | UL29556
UL30817 | UL30819 | UL30933 | UL30935 | UL33707
UL33709 | UL36992 | UL37090 | UL37272 | UL37274
UL37276 | UL37278 | UL38029 | UL38032

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (g) of this AD. The request should include an assessment of the effect of the modification, alteration, or repair on the unsafe condition addressed by this AD; and, if the unsafe condition has not been eliminated, the request should include specific proposed actions to address it.

Compliance: Compliance with this AD is required as indicated, unless already done.

To detect cracks in LPC fan blade roots, which if not detected, could lead to uncontained multiple fan blade failure, and damage to the airplane, do the following:

(a) If you have a full set of fan blades, modified using RR service bulletin RB.211-72-C946, dated August 6, 2002, that can be identified by a blue triangle etched on the blade airfoil suction surface close to the leading edge tip of each blade, no further action is required.

(b) On RB211-535E4 engines, operated to Flight Profile A, ultrasonically inspect, and if required, relubricate using the following Table 2:

Table 2.—RB211-535E4 Flight Profile A
Engine location | Initial inspection within (CSN) | Type action | In accordance with | Repeat inspection within (CSN)
(1) On-wing | 17,350 | (i) Root Probe, inspect and relubricate, OR | RB.211-72-C879 Revision 3, 3.A.(1) through 3.A.(7), dated October 9, 2002 | 1,400.
|  | (ii) Wave Probe | RB.211-72-C879 Revision 3, 3.B.(1) through 3.B.(7), dated October 9, 2002 | 1,150.
(2) In Shop | 17,350 | Root Probe, inspect and relubricate | RB.211-72-C879 Revision 3, 3.C.(1) through 3.C.(4), dated October 9, 2002 | 1,400.

(c) On RB211-535E4 engines, operated to Flight Profile B, ultrasonically inspect, and if required, relubricate using the following Table 3:

Table 3.—RB211-535E4 Flight Profile B
Engine location | Initial inspection within (CSN) | Type action | In accordance with | Repeat inspection within (CSN)
(1) On-wing | 12,350 | (i) Root Probe, inspect and relubricate, OR | RB.211-72-C879 Revision 3, 3.A.(1) through 3.A.(7), dated October 9, 2002 | 850.
|  | (ii) Wave Probe | RB.211-72-C879 Revision 3, 3.B.(1) through 3.B.(7), dated October 9, 2002 | 700.
(2) In Shop | 12,350 | Root Probe, inspect and relubricate | RB.211-72-C879 Revision 3, 3.C.(1) through 3.C.(4), dated October 9, 2002 | 850.

(d) On RB211-535E4 engines, operated to combined Flight Profile A and B, ultrasonically inspect, and if required, relubricate using the following Table 4:

Table 4.—RB211-535E4 Flight Profile A and B
Engine location | Initial inspection within (CSN) | Type action | In accordance with | Repeat inspection within (CSN)
(1) On-wing | 65% hard life (To calculate, see Compliance Section 1.C.(4)) | (i) Root Probe, inspect and relubricate, OR | RB.211-72-C879 Revision 3, 3.A.(1) through 3.A.(7), dated October 9, 2002 | As current flight profile.
|  | (ii) Wave Probe | RB.211-72-C879 Revision 3, 3.B.(1) through 3.B.(7), dated October 9, 2002 | As current flight profile.
(2) In Shop | 65% hard life (To calculate, see Compliance Section 1.C.(4)) | Root Probe, inspect and relubricate | RB.211-72-C879 Revision 3, 3.C.(1) through 3.C.(4), dated October 9, 2002 | As current flight profile.

Note 2: Fan blades that have been operated within RB211-535E4 Flight Profile A and B will have final life as defined in the Time Limits Manual. See References Section 1.G.(3), of MSB RB.211-72-C879, Revision 3, dated October 9, 2002.

(e) On RB211-535E4-B engines, ultrasonically inspect, and if required, relubricate using the following Table 5:

Table 5.—RB211-535E4-B
Engine location | Initial inspection within (CSN) | Type action | In accordance with | Repeat inspection within (CSN)
(1) On-wing. | 17,000. | (i) Root Probe, inspect and | RB.211-72-C879 Revision 3, 3.A.(1) | 1,200.
|  | relubricate, OR | through 3.A.(7), dated October 9, 2002. |
|  | (ii) Wave Probe. | RB.211-72-C879 Revision 3,3.B.(1) through 3.B.(7), dated October 9, 2002. | 1,000.
(2) In Shop. | 17,000. | Root Probe, inspect and relubricate. | RB.211-72-C879 Revision 3,3.C.(1) through 3.C.(4), dated October 9, 2002. | 1,200.

Optional Terminating Action

(f) Application of Metco 58 blade root coating using RR SB RB.211-72-C946, Revision 1, dated August 6, 2002, constitutes terminating action to the repetitive inspection requirements specified in paragraphs (b), (c), (d), and (e) of this AD.

Alternative Methods of Compliance

(g) An alternative method of compliance or adjustment of the compliance time that provides an acceptable level of safety may be used if approved by the Manager, Engine Certification Office (ECO). Operators must submit their request through an appropriate FAA Principal Maintenance Inspector, who may add comments and then send it to the Manager, ECO.

Note 3: Information concerning the existence of approved alternative methods of compliance with this airworthiness directive, if any, may be obtained from the ECO.

Special Flight Permits

(h) Special flight permits may be issued in accordance with §§ 21.197 and 21.199 of the Federal Aviation Regulations (14 CFR 21.197 and 21.199) to operate the aircraft to a location where the requirements of this AD can be done.

Documents That Have Been Incorporated By Reference

(i) The inspections must be done in accordance with Rolls-Royce plc mandatory service bulletin RB.211-72-C879, Revision 3, dated October 9, 2002. This incorporation by reference was approved by the Director of the Federal Register in accordance with 5 U.S.C. 552(a) and 1 CFR part 51. Copies may be obtained from Rolls-Royce plc, PO Box 31, Derby, England, DE248BJ; telephone: 011-44-1332-242-424; fax: 011-44-1332-249-936. Copies may be inspected at the FAA, New England Region, Office of the Regional Counsel, 12 New England Executive Park, Burlington, MA; or at the Office of the Federal Register, 800 North Capitol Street, NW, suite 700, Washington, DC.

Note 4: The subject of this AD is addressed in CAA airworthiness directive AD 002-01-2000, dated October 9, 2002.

Effective Date

(j) This amendment becomes effective on July 30, 2003.

Issued in Burlington, Massachusetts, on June 13, 2003.
Peter A. White,
Acting Manager, Engine and Propeller Directorate, Aircraft Certification Service.

[FR Doc. 03-15449 Filed 6-24-03; 8:45 am]

BILLING CODE 4910-13-P